DEPARTMENT OF DEFENSE

Department of the Army

[Docket ID: USA-2019-HQ-0026]

Proposed Collection; Comment Request

AGENCY: U.S. Army Corps of Engineers, DoD.

ACTION: Information collection notice.

SUMMARY: In compliance with the Paperwork Reduction Act of 1995, the U.S. Army Corps of Engineers, announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 12, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Corps of Engineers, Directorate of Civil Works, Office of Planning and Policy, ATTN: Douglas Gorecki, 441 G Street, Washington, DC 20314, or call 202-761-5450.

SUPPLEMENTARY INFORMATION:

Title; Associated Form; and OMB Number: U.S. Army Corps of Engineers, Instrument(s) for Navigation Improvement Survey(s), Generic Collection OMB Control Number 0710-0018.

Needs and Uses: The primary purpose of the collections to be conducted under this clearance is to provide data which will be used in conjunction with other information to derive numerical values of shipper's, waterway carrier's and commercial fisher's behavior and estimates of transportation cost savings resulting from changes to the navigation infrastructure. In general, all collections under this generic clearance will be designed based upon accepted statistical practices and sampling methodologies, will gather consistent and valid data that are representative of the target population(s), address non-response bias issues, and achieve response rates needed to obtain statistically useful results.

Affected Public: Individuals or households, Business or other for-profit, Not-for-profit institutions, Farms, State, Local or Tribal Government.

Annual Burden Hours: 500.

Number of Respondents: 1500.

Responses per Respondent: 1.

Annual Responses: 1500.

Average Burden per Response: 20 Minutes.

Frequency: On Occasion.

Dated: September 6, 2019.
Aaron T. Siegel,
Alternate OSD Federal Register, Liaison Officer, Department of Defense.

[FR Doc. 2019-19649 Filed 9-10-19; 8:45 am]

BILLING CODE 5001-06-P